NATIONAL INSTITUTE FOR LITERACY

Submission for OMB Review; Comment Request

AGENCY: National Institute for Literacy (NIFL).

ACTION: Notice of information collection.

SUMMARY: The NIFL Director invites comments on the submission for OMB review as required by the Paperwork Reduction Act of 1995.

DATES: Interested persons are invited to submit comments on or before June 1, 2000.

ADDRESSES: Written comments should be addressed to the Office of Information and Regulatory Affairs, Attention: Danny Werfel, Desk Officer, Department of Education, Office of Management and Budget, 725 17th Street, NW, Room 10235, New Executive Office Building, Washington, DC 20503, or should be electronically mailed to the internet address DWERFEL@OMB.EOP.GOV.

SUPPLEMENTARY INFORMATION: Title: Application for Literacy Information aNd Communication System (LINCS) Regional Technology Centers Awards to organizations to support the creation of regional technology coordinating centers to expand and coordinated LINCS services at the regional and state level.

Abstract: The National Institute for Literacy (NIFL) was created by the National Literacy Act of 1991 and amended by the Workforce Investment Act of 1998 to provide a national focal point for literacy activities and to facilitate the pooling of ideas and expertise across a fragmented field. The Act authorizes the NIFL to conduct basic and applied research and demonstrations on literacy; collect and disseminate information to Federal, State and local entities with respect to literacy; and improve and expand the system for delivery of literacy services. The NIFL will provide funding to organizations for the creation of regional technology centers that will represent and promote LINCS within their region; work with the NIFL and other regional technology centers to improve and expand LINCS; provide literacy-related resources through LINCS; and train organizations and individuals in the use of LINCS and technology and carry out such other tasks as called for in the information collection request. Evaluations to determine successful applications will be made by a panel of literacy experts and information specialists using the published criteria. The NIFL will use this information to make up to 5 cooperative agreement awards for a period of up to three years.

Burden Statement: The burden for this collection of information is estimated at 55 hours per response for the first year. This estimate includes the time needed to review instructions, complete the form, and review the collection of information. No more than five applicants will be awarded a three-year cooperative agreement grant. Each awardee will have an annual update of the application requiring an average of 40 hours per response for each continuation year.

Respondents: Public and private non-profit organizations.

Estimated Number of Respondents: 15.

Estimated Number of Responses Per Respondent: 1.

Estimated Total Annual Burden on Respondents: 79 hours.

Request for Comments

Section 3506 of the Paperwork Reduction Act of 1995 (44 USC Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The NIFL director publishes that notice containing proposed information collection requests prior to submission of these requests to OMB. Each proposed information collection contains a burden statement that includes the estimated burden hours and other relevant information.

Requests for copies of the proposed information collection request may be accessed from www.nifl.gov/lines or comments regarding burden and/or the collection activity requirements should be addressed to Jaleh Behroozi Soroui, National Institute for Literacy, 1775 I Street, NW, Suite 730, Washington, DC 20006. Requests also may be electronically mailed to the internet address jbehroozi@nifl.gov or faxed to 202-233-2050. Please specify the complete title of the information collection when making your request.

Dated: April 25, 2000.
Carolyn Y. Staley,
Acting Director, NIFL.

[FR Doc. 00-10871 Filed 5-1-00; 8:45 am]

BILLING CODE 6055-01-M